DEPARTMENT OF COMMERCE

National Oceanic and Atmospheric Administration

[I.D. 091800A]

New England Fishery Management Council; Public Meeting

AGENCY: National Marine Fisheries Service (NMFS), National Oceanic and Atmospheric Administration (NOAA), Commerce.

ACTION: Notice of public meeting.

SUMMARY: The New England Fishery Management Council will convene a public meeting of its Groundfish Oversight Committee.

DATES: The meeting will be held October 10-11, 2000, beginning at 9:30 a.m.

ADDRESSES: The meeting will be held at the Sheraton Colonial Hotel, One Audubon Road, Wakefield, MA 01880; telephone (781) 245-9300.

Council Address: New England Fishery Management Council, 50 Water Street, Newburyport, MA 01950; telephone: (978)

465-0492.

FOR FURTHER INFORMATION CONTACT: Paul J. Howard, Executive Director, New England Fishery Management Council (978) 465-0492.

SUPPLEMENTARY INFORMATION: The Groundfish Oversight Committee will continue its development of management alternatives for Amendment 13 to the Northeast Multispecies Fishery Management Plan. The Committee will finalize its recommendations for rebuilding plans for overfished stocks, measures to address capacity in the groundfish fishery, and options for closed areas and refine its proposals for the status quo, area management, and sector allocation alternatives. Recommendations from this group will be brought to the full Council for formal consideration and action, if appropriate.

Although non-emergency issues not contained in this agenda may come before this Council for discussion, in accordance with the Magnuson-Stevens Fishery Conservation and Management Act, those issues may not be the subject of formal Council action during this meeting. Action will be restricted to those issues specifically listed in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Paul J. Howard (see ADDRESSES) at least 5 days prior to the meeting dates.

Dated: September 18, 2000.
Richard W. Surdi,
Acting Director, Office of Sustainable Fisheries, National Marine Fisheries Service.

[FR Doc. 00-24299 Filed 9-20-00; 8:45 am]

BILLING CODE 3510-22-S